DEPARTMENT OF ENERGY

Federal Energy Regulatory Commission

[Docket No. PF09-7-000]

Kern River Gas Transmission Company; Notice of Intent To Prepare an Environmental Impact Statement for the Apex Expansion Project, Request for Comments on Environmental Issues, and Notice of Joint Public Scoping Meetings

May 15, 2009.

The staff of the Federal Energy Regulatory Commission (FERC or Commission), the U.S. Department of Interior, Bureau of Land Management (BLM), the U.S. Forest Service (FS), and Bureau of Reclamation (Reclamation) will prepare an environmental impact statement (EIS) that will discuss the environmental impacts that could result from the construction and operation of the Apex Expansion Project. The FERC is the lead federal agency for the preparation of the EIS, and the EIS will be used by the Commission in its decision making process to determine whether the project is in the public convenience and necessity. The project would involve Kern River Gas Transmission Company's (Kern River) planned construction and operation of a new natural gas pipeline in Morgan, Davis, and Salt Lake Counties, Utah.

This Notice of Intent (NOI) announces the opening of the scoping process used to gather input from the public and interested agencies on the project. Your input will help the Commission staff and cooperating agencies determine which issues need to be evaluated in the EIS. Please note that the scoping period will close on June 15, 2009.

Comments may be submitted in written or verbal form. Further details on how to submit written comments are provided in the Public Participation section of this notice. In lieu of or in addition to sending written comments, we invite you to attend the public scoping meetings scheduled as follows.

Date and time | Location
June 9, 2009 7 p.m. local time | Bountiful High School Auditorium, 695 S. Orchard Dr., Bountiful, UT 84010.
June 10, 2009 7 p.m. local time | Morgan County Courthouse Auditorium, 48 West Young Street, Morgan, UT 84050.

Interested groups and individuals are encouraged to attend the meetings and to present comments on the environmental issues they believe should be addressed in the EIS. A transcript of the meeting will be generated so that your comments will be accurately recorded.

This notice is being sent to the Commission's current environmental mailing list for this project, which includes: affected landowners; federal, state, and local government representatives and agencies; elected officials; environmental and public interest groups; Native American tribes; other interested parties in this proceeding; and local libraries and newspapers. We ¹ encourage state and local government representatives to notify their constituents of the planned project and encourage them to comment on their areas of concern.

¹ “We”, “us”, and “our” refer to the environmental staff of the Office of Energy Projects (OEP).

If you are a landowner receiving this notice, you may be contacted by a pipeline company representative about the acquisition of an easement to construct, operate, and maintain the planned facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” is available for viewing on the FERC Internet Web site (http://www.ferc.gov). This fact sheet addresses a number of typically asked questions, including the use of eminent domain and how to participate in the Commission's proceedings.

Summary of the Proposed Project

Kern River has announced its plans to construct and operate approximately 29 miles of new 36-inch-diameter natural gas pipeline loop ² in Morgan, Davis, and Salt Lake Counties, Utah (known as the Wasatch Loop). The planned Apex Expansion Project would also include:

² A loop is a segment of pipeline that is usually installed adjacent to an existing pipeline and connected to it at both ends. The loop allows more gas to be moved through the system.

• Construction of a new compressor station in Beaver County, Utah (Milford Compressor Station);

• Replacement of a compressor unit at the Fillmore Compressor Station in Millard County, Utah; and

• Additional compression at the following existing compressor stations, totaling 78,000 horsepower:

• Coyote Creek Compressor Station in Uinta County, Wyoming;

• Elberta Compressor Station in Utah County, Utah; and

• Dry Lake Compressor Station in Clark County, Nevada.

Location maps depicting the planned facilities are attached to this NOI as Appendix 1.³

³ The appendices referenced in this notice are not being printed in the Federal Register. Copies of all appendices are available on the Commission's website at the “eLibrary” link or from the Commission's Public Reference Room, 888 First Street, NE., Washington, DC 20426, or call (202) 502-8371. For instructions on connecting to eLibrary refer to the last page of this notice. Copies of the appendices were sent to all those receiving this notice in the mail.

Kern River is also considering an alternative pipeline route which would follow the planned route through the FS Ward Canyon utility corridor to Bountiful City where it would turn south onto Bountiful Boulevard for approximately 6 miles before rejoining the existing Kern River pipeline, thereafter following the planned route.

Land Requirements for Construction

Construction of the Apex Expansion Project would require about 356 acres of land for the pipeline. Following construction, about 178 acres would be used for the operation of the pipeline. The construction and operation of the Milford Compressor Station would require 30 acres on BLM land, and the upgrades and replacement activities at the existing compressor stations would require 20 acres on land already owned/leased by Kern River (The Dry Lake Compressor Station is also on land owned by the BLM). The area disturbed during construction but not required for operation would generally be allowed to revert to pre-construction condition.

The planned Wasatch Loop, some of which crosses land under the jurisdiction of the FS in the Uinta-Wasatch-Cache National Forest, would be located within and directly adjacent to the existing Kern River right-of-way. Kern River plans to align the loop with a typical offset of 35 feet from the existing pipeline to the extent practicable. The planned modifications to the four existing compressor stations would occur within the existing fence line of those facilities.

The EIS Process

The National Environmental Policy Act (NEPA) requires the Commission to take into account the environmental impacts that could result from an action whenever it considers the issuance of a Certificate of Public Convenience and Necessity. NEPA also requires us to discover and address concerns the public may have about proposals. This process is referred to as “scoping.” The main goal of the scoping process is to focus the analysis in the EIS on the important environmental issues. By this NOI, the Commission staff requests public comments on the scope of the issues to address in the EIS. All comments received will be considered during the preparation of the EIS.

In the EIS we will discuss impacts that could occur as a result of the construction and operation of the planned project under these general headings:

• Geology and soils;

• Land use;

• Water resources, fisheries, and wetlands;

• Cultural resources;

• Vegetation and wildlife;

• Air quality and noise;

• Endangered and threatened species; and

• Public safety.

We will also evaluate possible alternatives to the planned project or portions of the project, and make recommendations on how to lessen or avoid impacts on the various resource areas.

Although no formal application has been filed, we have already initiated our NEPA review under the Commission's Pre-Filing Process. The purpose of the Pre-Filing Process is to encourage early involvement of interested stakeholders and to identify and resolve issues before an application is filed with the FERC. As part of our Pre-Filing Process review, we have begun to contact some federal and state agencies to discuss their involvement in the scoping process and the preparation of the EIS. In addition, representatives from the FERC participated in public open houses sponsored by Kern River in the project area in March 2009, to explain the environmental review process to interested stakeholders.

The planned Milford Compressor Station and associated access road and the Dry Lake Compressor Station would be located on federal lands for which the BLM has jurisdiction and/or special expertise with respect to environmental issues/impacts. The planned Wasatch Loop would cross federal lands under FS jurisdiction in the Uinta-Wasatch-Cache National Forest for which the FS would require a plan amendment to the 2003 Forest Plan. The planned route and the alternative route along Bountiful Boulevard would also cross federal lands under Reclamation jurisdiction. Kern River would seek a right-of-way grant amendment from the BLM for all federal lands crossed by the Project.

Our independent analysis of the issues will be included in a draft EIS. The draft EIS will be mailed to federal, state, and local government agencies; elected officials; affected landowners; environmental and public interest groups; Indian tribes and regional Native American organizations; commentors; other interested parties; local libraries and newspapers; and the FERC's official service list for this proceeding. A 45-day comment period will be allotted for review of the draft EIS and the proposed plan amendment. We will consider all timely comments on the draft EIS and revise the document, as necessary, before issuing a final EIS. To ensure that your comments are considered, please carefully follow the instructions in the Public Participation section of this NOI.

With this NOI, we are asking any other federal, state, and local agencies with jurisdiction and/or special expertise with respect to environmental issues to formally cooperate with us in the preparation of the EIS. These agencies may choose to participate once they have evaluated the proposal relative to their responsibilities. Additional agencies that would like to request cooperating agency status should follow the instructions for filing comments provided under the Public Participation section of this NOI. Currently, the BLM, FS, and Reclamation have expressed their intention to participate as cooperating agencies in the preparation of the EIS to satisfy their NEPA responsibilities for the portion of the Project on Federal lands.

Currently Identified Environmental Issues

We have already identified several issues that we think deserve attention based on a preliminary review of the planned facilities, comments made to us at Kern River's open houses, preliminary consultations with other agencies, and the environmental information provided by Kern River. This preliminary list of issues may be changed based on your comments and our analysis:

• Disturbance to residents along pipeline construction route, including noise and aesthetics;

• Impacts to the viewshed from construction activities and placement of aboveground facilities;

• Potential for geological hazards, including seismic activity, to have impacts on the pipeline;

• Impacts of the pipeline on cultural resources, including paleontological resources and historic trails;

• Impacts of the pipeline on recreation and scenic resources; and

• Possible disturbance to residents and impacts to the viewshed from construction activities on the alternative route along Bountiful Boulevard.

Public Participation

You can make a difference by providing us with your specific comments or concerns about the Apex Expansion Project. Your comments should focus on the potential environmental effects, reasonable alternatives, and measures to avoid or lessen environmental impacts. The more specific your comments, the more useful they will be. To ensure that your comments are timely and properly recorded, please send in your comments so that they will be received in Washington, DC on or before June 15, 2009.

For your convenience, there are three methods you can use to submit your written comments to the Commission. In all instances please reference the project docket number PF09-7-000 with your submission. The Commission encourages electronic filing of comments and has dedicated eFiling expert staff available to assist you at 202-502-8258 orefiling@ferc.gov.

(1) You may file your comments electronically by using the Quick Comment feature, which is located on the Commission's Internet Web site at http://www.ferc.gov under the link to Documents and Filings. A Quick Comment is an easy method for interested persons to submit text-only comments on a project;

(2) You may file your comments electronically by using the eFiling feature, which is located on the Commission's Internet Web site at http://www.ferc.gov under the link to Documents and Filings. eFiling involves preparing your submission in the same manner as you would if filing on paper, and then saving the file on your computer's hard drive. You will attach that file as your submission. New eFiling users must first create an account by clicking on “Sign up” or “eRegister.” You will be asked to select the type of filing you are making. A comment on a particular project is considered a “Comment on a Filing;” or

(3) You may file your comments via mail to the Commission by sending an original and two copies of your letter to: Kimberly D. Bose, Secretary, Federal Energy Regulatory Commission, 888 First St., NE., Room 1A, Washington, DC 20426.

Label one copy of the comments for the attention of Gas Branch 1, PJ-11.1.

Becoming an Intervenor

Once Kern River formally files its application with the Commission, you may want to become an “intervenor,” which is an official party to the proceeding. Intervenors play a more formal role in the process and are able to file briefs, appear at hearings, and be heard by the courts if they choose to appeal the Commission's final ruling. An intervenor formally participates in a Commission proceeding by filing a request to intervene. Instructions for becoming an intervenor are included in the User's Guide under the “eFiling” link on the Commission's Web site. Please note that you may not request intervenor status at this time; you must wait until the formal application for the Project is filed with the Commission.

Environmental Mailing List

An effort is being made to send this notice to all individuals, organizations, and government entities interested in and/or potentially affected by the planned project. This includes all landowners who are potential right-of-way grantors, whose property may be used temporarily for project purposes, or who own homes within certain distances (defined in the Commission's regulations) of aboveground facilities.

If you do not want to send comments at this time but still want to remain on our mailing list, please return the Information Request (Appendix 2). If you do not return the Information Request, you will be taken off the mailing list.

Availability of Additional Information

Additional information about the project is available from the Commission's Office of External Affairs, at 1-866-208-FERC or on the FERC Internet Web site (http://www.ferc.gov) using the eLibrary link. Click on the eLibrary link, click on “General Search” and enter the docket number excluding the last three digits in the Docket Number field. Be sure you have selected an appropriate date range. For assistance, please contact FERC Online Support at FercOnlineSupport@ferc.gov or toll free at 1-866-208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Public meetings or site visits will be posted on the Commission's calendar located at http://www.ferc.gov/EventCalendar/EventsList.aspx along with other related information.

Finally, to request additional information on the project or to provide comments directly to the project sponsor, you can contact Kern River directly by calling toll free at 1-888-222-1897. Also, Kern River has established an Internet Web site at http://www.kernrivergas.com, click on the “Expansion Projects” tab. The Web site includes a description of the Project, an overview map of the planned facilities, and links to related documents. Kern River will update the Web site as the environmental review of its project proceeds.

Kimberly D. Bose,
Secretary.

[FR Doc. E9-12082 Filed 5-22-09; 8:45 am]

BILLING CODE 6717-01-P